DEPARTMENT OF HOUSING AND URBAN DEVELOPMENT

[Docket No. FR-4797-N-01]

Notice of Reminder for Fiscal Year 2002 HOPE VI Demolition Grant Applicants of the Need For Prior Demolition Approval

AGENCY: Office of the Assistant Secretary for Public and Indian Housing, HUD.

ACTION: Notice.

SUMMARY: This notice reminds potential applicants for Fiscal Year 2002 HOPE VI demolition grants, that they must secure demolition approval under section 18 of the United States Housing Act of 1937 on or before the HOPE VI demolition grant application deadline.

FOR FURTHER INFORMATION CONTACT: Caroline Clayton, Office of Public and Indian Housing, Room 4130, Department of Housing and Urban Development, 451 Seventh Street, SW., Washington, DC 20410, telephone (202) 401-8812. (This number is not toll-free). For hearing- and speech-impaired persons, this number may be accessed via TTY (text telephone) by calling the toll-free Federal Information Relay Service at 1-800-877-8339. The section 18 demolition application form (HUD-52860) is available at http://www.hudclips.org/sub_nonhud/html/pdfforms/52860.pdf.

SUPPLEMENTARY INFORMATION: HUD anticipates that it will soon publish the FY 2002 HOPE VI demolition notice of funding availability (NOFA). This notice serves to remind public housing authorities that anticipate applying for a Fiscal Year (FY) 2002 HOPE VI demolition grant that demolition approval must be obtained on or before the HOPE VI demolition grant application deadline. Section 18 of the United States Housing Act of 1937 (42 U.S.C. 1437p) establishes the demolition approval application process for properties not already approved for demolition through a Mandatory Conversion Plan or HOPE VI Revitalization Plan. In addition, regulations at 24 CFR part 970 describe the administrative steps required to perform demolition/disposition activity in accordance with the United States Housing Act of 1937. Public housing agencies are also advised that HUD's Special Application Center, which processes demolition approval applications, requires 100 days to process an application.

This notice applies to demolition-only grants, not demolition conducted pursuant to a HOPE VI revitalization grant or a Mandatory Conversion Plan approved under applicable regulations (24 CFR part 971). Guidance on preparing a demolition approval application and links to the regulations and applicable notices, is available though HUD's Web site at http://www.hud.gov/offices/pih/centers/sac/demo_dispo/. The section 18 demolition application form (HUD-52860) is available at http://www.hudclips.org/sub_nonhud/html/pdfforms/52860.pdf.

Dated: November 25, 2002.
Michael Liu,
Assistant Secretary for Public and Indian Housing.

[FR Doc. 02-30572 Filed 12-2-02; 8:45 am]

BILLING CODE 4210-33-P